DEPARTMENT OF COMMERCE

International Trade Administration

[A-570-888]

Floor-Standing, Metal-Top Ironing Tables and Certain Parts Thereof From the People's Republic of China: Notice of Court Decision Not in Harmony With Final Results and Notice of Amended Final Results

AGENCY: Import Administration, International Trade Administration, Department of Commerce.

SUMMARY: On June 14, 2012, the United States Court of International Trade (the Court) issued final judgment in Home Products International, Inc. v. United States, Court No., 11-00104, sustaining the Department of Commerce's (the Department) final results of redetermination pursuant to remand.¹ Consistent with the decision of the United States Court of Appeals for the Federal Circuit (Federal Circuit) in Timken Co., v. United States, 893 F.2d 337 (Fed. Cir. 1990) (Timken), as clarified by Diamond Sawblades Mfrs. Coalition v. United States, 626 F.3d 1374 (Fed. Cir. 2010) (Diamond Sawblades), the Department is notifying the public that the final judgment in this case is not in harmony with the Department's final results and is amending the final results of floor standing metal-top ironing tables from the People's Republic of China with respect to the margin assigned to Since Hardware (Guangzhou) Co., Ltd. (Since Hardware) covering the period August 1, 2007, through July 31, 2008.²

¹ See Final Results of Redetermination Pursuant to Court Remand, Floor-Standing Metal-Top Ironing Tables and Certain Parts Thereof from the People's Republic of China, Home Products International, Inc. v. United States Court No., 11-00104, March 14, 2012, (Remand Results) available, at http://www.ia.ita.doc.gov/remands/index.html.

² See Floor-Standing Metal-Top Ironing Tables and Certain Parts Thereof from the People's Republic of China: Final Results of Antidumping Duty Administrative Review, 76 FR 15295 (March 21, 2011) (Final Results)

DATES: Effective Date: June 26, 2012.

FOR FURTHER INFORMATION CONTACT: Michael J. Heaney or Robert James, AD/CVD Operations, Office 7, Import Administration, International Trade Administration, U.S. Department of Commerce, 14th Street and Constitution Avenue NW., Washington, DC 20230; telephone: (202) 482-4475 or (202) 482-0649, respectively.

SUPPLEMENTARY INFORMATION: On January 6, 2012, the Court remanded the Final Results, and instructed the Department to reconcile its exclusion of Indian data from the labor value with certain concerns raised in Shandong Rongxin Import & Export Co., v. United States, 774 F.Supp. 2d 1307 (2011) (Shandong).³ On remand, the Department recalculated Since Hardware's labor value using additional labor data, including labor data from the primary surrogate country, India. As a result, Since Hardware's margin changed from 67.37 percent to 66.06 percent. On June 14, 2012, the Court sustained the Department's Final Results and Remand Results.⁴

³ See Home Products International v. United States, Slip Op. 12-4, p.12 (January. 6, 2012).

⁴ See Home Products International, Inc. v United States Court No., 11-00104 Slip Op. 12-84 (CIT June 14, 2012)

Timken Notice

In its decision in Timken, 893 F.2d at 341, as clarified by Diamond Sawblades, the Federal Circuit has held that, pursuant to section 516A(e) of the Tariff Act of 1930, as amended, (the Act) the Department must publish a notice of a court decision not “in harmony” with a Department determination, and must suspend liquidation of entries pending a “conclusive” court decision. The Court's June 14, 2012, judgment sustaining the Final Results and Remand Results constitutes a final decision of the Court that is not in harmony with the Department's Final Results. This notice is published in fulfillment of the publication requirement of Timken. Accordingly, the Department will continue the suspension of liquidation of the subject merchandise pending the expiration of the period of appeal, or if appealed, pending a final and conclusive court decision. The cash deposit rate will remain the company-specific rate established for Since Hardware for the subsequent and most recent period during which the respondent was reviewed.⁵

⁵ See Floor-Standing Metal-Top Ironing Tables and Certain Parts Thereof from the People's Republic of China: Final Results of Antidumping Duty Administrative Review, 76 FR 15295 (March 21, 2011).

Amended Final Determination

Because there is now a final court decision, we are amending the Final Results with respect to Since Hardware's margin for the period August 1, 2007, through July 31, 2008. The revised weighted-average dumping margin is as follows:

Exporter | Percent margin
Since Hardware | 66.06

In the event the Court's ruling is not appealed, or if appealed, upheld by the Federal Circuit, the Department will instruct U.S. Customs and Border Protection to assess antidumping duties on entries of the subject merchandise exported by Since Hardware using the revised assessment rate calculated by the Department in the Remand Results.

This notice is issued and published in accordance with sections 516(A)(e)(1), 751(a)(1), and 777(i)(1) of the Act.

Dated: June 20, 2012.
Ronald K. Lorentzen,
Assistant Secretary for Import Administration.

[FR Doc. 2012-15576 Filed 6-25-12; 8:45 am]

BILLING CODE 3510-DS-P